ENVIRONMENTAL PROTECTION AGENCY

40 CFR Part 52

[EPA-R02-OAR-2020-0438; FRL10017-48-Region 2]

Approval and Promulgation of Implementation Plans; United States Virgin Islands; Regional Haze Federal Implementation Plan; Correction

AGENCY: Environmental Protection Agency (EPA).

ACTION: Proposed rule.

SUMMARY: On October 22, 2012, the EPA published a final rule in the Federal Register promulgating a Federal Implementation Plan (FIP) intended to address regional haze obligations for the Territory of the United States Virgin Islands. However, at that time EPA erroneously failed to incorporate into the Code of Federal Regulations (CFR) certain emission limits that had been determined to be necessary to satisfy those obligations and that had been proposed and included in the docket for the action. EPA is proposing to correct this inadvertent error by incorporating the previously noticed limits into the CFR. EPA is not reopening any of its previous determinations here.

DATES: Written comments must be received on or before March 22, 2021.

ADDRESSES: Submit your comments, identified by Docket Number EPA-R02-OAR-2020-0438, at http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, such as the full EPA public comment policy, information about CBI or multimedia submissions, and general guidance on making effective comments, please visit http://www2.epa.gov/dockets/commenting-epa-dockets.

FOR FURTHER INFORMATION CONTACT: Omar Hammad, Air Planning Section, Environmental Protection Agency, 290 Broadway, 25th Floor, New York, New York 10007-1866, (212) 637-3347.

SUPPLEMENTARY INFORMATION: EPA published a final rule on October 22, 2012 (77 FR 64414). In that document, EPA promulgated a Federal Implementation Plan (FIP) to address regional haze obligations for the Territory of the United States Virgin Islands. EPA determined that certain emission limits for sources of visibility impairing pollutants in the Virgin Islands were necessary to satisfy the requirements of the Clean Air Act and EPA's rules concerning making reasonable progress towards the national goal of preventing any future and remedying any existing man-made impairment of visibility in mandatory Class I areas (also referred to as the “regional haze program”). In that action, however, EPA erroneously failed to incorporate into the Code of Federal Regulations those limits, which had been noticed in the proposed rule (77 FR 37842, June 25, 2012) and which were included in docket EPA-R02-OAR-2012-0457, accompanying that proposed rule.¹ EPA determined in the 2012 final rule that those potential-to-emit (PTE) limits constituted the best-available retrofit technology (BART) emission limits for sources that had been determined to be subject-to-BART. EPA is now proposing a technical correction to incorporate the table containing the PTE limits necessary to satisfy the Virgin Islands' BART obligation into the CFR.

¹ Document ID EPA-R02-OAR-2012-0457-0007 and EPA-R02-OAR-2012-0457-0008 in docket EPA-R02-OAR-2012-0457.

While EPA would not ordinarily request comment on a technical correction of this nature, we are doing so here because under the circumstances we believe maximum transparency is in the public interest. We are requesting comment on the narrow issue of whether the limits in the table that follows are the limits EPA determined to be BART in the 2012 action. Comments received on any other issues, including other aspects of the 2012 final rule, will be deemed beyond the scope of this action. This proposed rule does not reopen the previous determination that the PTE limits contained in the docket for the 2012 final rule represent BART for the units determined to be subject-to-BART; this action merely corrects an inadvertent omission in a previous rulemaking. This proposal does not address current circumstances, but merely clarifies what was intended to be included in the CFR pursuant to the 2012 FIP. The already approved BART limits are summarized in the following table:

Facility | BART unit | BART controls/limits: Control | BART controls/limits: SO2 (tons/year) | BART controls/limits: NO2 (tons/year) | BART controls/limits: PM (tons/year)
HOVENSA | Boilers:
| 1 (B-1151) |  | 330.1 | 450.6 | 40.6
| 3 (B-1153) |  | 330.1 | 450.6 | 40.6
| 4 (B-1154) |  | 322.5 | 443.5 | 39.7
| 5 (B-1155) |  | 484.9 | 676.9 | 60.7
| 6 (B-3301) |  | 330.8 | 435.3 | 40.6
| 7 (B-3302) |  | 330.8 | 435.3 | 40.6
| 8 (B-3303) |  | 640.1 | 559.8 | 78.6
| 9 (B-3304) |  | 640.1 | 559.8 | 78.6
| Turbines:
| GT1 (G-1101E) |  | 135.5 | 805.7 | 12.2
| GT2 (G-1101F) |  | 135.5 | 805.7 | 12.2
| GT3 (G-1101G) |  | 135.5 | 805.7 | 12.2
| GT4 (G-3404) |  | 161.0 | 809.5 | 12.9
| GT5 (G-3405) |  | 161.0 | 766.5 | 12.9
| GT6 (G-3406) |  | 161.0 | 766.5 | 12.9
| GT7 (G-3407) |  | 161.0 | 766.5 | 12.9
| GT8 (G-3408) |  | 167.6 | 1002.1 | 15.1
| GT9 (G-3409) | Steam Injection for NOX Control | 52.2 | 150.2 | 14.0
| Process Heaters:
| H-101 |  | 155.5 | 232.5 | 19.3
| H-104 |  | 115.5 | 172.8 | 17.2
| H-200 |  | 8.1 | 16.0 | 1.2
| H-201 |  | 8.2 | 16.1 | 1.2
| H-202 |  | 26.6 | 146.5 | 4.0
| H-401A |  | 197.6 | 279.1 | 24.4
| H-401B |  | 197.6 | 279.1 | 24.4
| H-401C |  | 197.6 | 279.1 | 24.4
| H-1401A |  | 163.1 | 388.7 | 21.1
| H-1401B |  | 155.4 | 370.2 | 20.1
| H-1500 |  | 13.0 | 25.5 | 2.0
| H-1501 |  | 13.7 | 26.8 | 2.0
| H-160 |  | 29.6 | 163.0 | 4.4
| H-600 |  | 11.5 | 22.5 | 1.7
| H-601 |  | 7.8 | 15.2 | 1.2
| H-602 |  | 62.6 | 344.4 | 9.4
| H-603 |  | 17.2 | 33.7 | 2.6
| H-604 |  | 8.1 | 15.9 | 1.2
| H-605 |  | 3.4 | 6.6 | 0.5
| H-606 |  | 11.8 | 23.1 | 1.8
| H-800A |  | 9.4 | 18.4 | 1.4
| H-800B |  | 9.4 | 18.4 | 1.4
| H-801 |  | 22.0 | 121.1 | 3.3
| H-2101 |  | 116.4 | 283.2 | 15.1
| H-2102 |  | 112.7 | 274.1 | 14.6
| H-2201A |  | 13.4 | 26.3 | 2.0
| H-2201B |  | 13.4 | 26.3 | 2.0
| H-2202 |  | 26.1 | 143.7 | 3.9
| H-2400 |  | 7.2 | 14.2 | 1.1
| H-2401 |  | 24.1 | 132.5 | 3.6
| H-2501 |  | 44.5 | 244.5 | 6.7
| H-4502 |  | 32.5 | 178.9 | 4.9
| H-4503 |  | 30.8 | 169.6 | 4.6
| H-4504 |  | 27.6 | 151.9 | 4.1
| H-4505 |  | 23.9 | 131.3 | 3.6
| H-3101A |  | 356.7 | 507.1 | 48.1
| H-3101B |  | 356.7 | 507.1 | 48.1
| H-4101A |  | 356.7 | 507.1 | 48.1
| H-4101B |  | 356.7 | 507.1 | 48.1
| H-4401 |  | 29.4 | 161.5 | 4.4
| H-4402 |  | 28.0 | 153.8 | 4.2
| H-4451 |  | 83.4 | 458.7 | 12.5
| H-4452 |  | 54.3 | 298.6 | 8.1
| H-4453 |  | 54.3 | 298.6 | 8.1
| H-4454 |  | 16.9 | 33.1 | 2.5
| H-4455 |  | 30.3 | 166.6 | 4.5
| H-4201 |  | 367.7 | 448.1 | 44.9
| H-4202 |  | 355.7 | 433.6 | 43.4
| H-5401 |  | 29.4 | 161.5 | 4.4
| H-5402 |  | 28 | 153.8 | 4.2
| H-5451 |  | 83.4 | 458.7 | 12.5
| H-5452 |  | 54.3 | 298.6 | 8.1
| H-5453 |  | 54.3 | 298.6 | 8.1
| H-5454 |  | 16.9 | 33.1 | 2.5
| H-5455 |  | 30.3 | 166.6 | 4.5
| H-4601A |  | 13.4 | 26.3 | 2
| H-4601B |  | 13.4 | 26.3 | 2
| H-4602 |  | 26.1 | 143.7 | 3.9
| H-4301A |  | 14.6 | 28.7 | 2.2
| H-4301B |  | 14.6 | 28.7 | 2.2
| H-4302 |  | 26.7 | 147.1 | 4
| H-5301A |  | 14.6 | 28.7 | 2.2
| H-5301B |  | 14.6 | 28.7 | 2.2
| H-5302 |  | 26.7 | 147.1 | 4
| TGT unit No. 2 Beavo:
| H-4761 & T-4761 |  | 2.0 | 4.0 | 1.0
| TGI units:
| H-1032 |  | 1.6 | 3.1 | 0.2
| H-1042 |  | 3.3 | 6.5 | 0.5
| H-4745 |  | 900.0 | 28.0 | 3.0
| Compressors:
| C-200A | Catalytic Converters for NOX and CO control | 0.0 | 33.1 | 0.2
| C-200B | Catalytic Converters for NOX and CO control | 0.0 | 33.1 | 0.2
| C-200C | Catalytic Converters for NOX and CO control | 0.0 | 33.1 | 0.2
| C-1500A |  | 0.0 | 40.0 | 0.1
| C-1500B |  | 0.0 | 40.0 | 0.1
| C-1500C |  | 0.0 | 40.0 | 0.1
| C-2400A | Catalytic Converters for NOX and CO control | 0.0 | 19.4 | 0.3
| C-2400B | Catalytic Converters for NOX and CO control | 0.0 | 19.4 | 0.3
| C-4601A |  | 0.0 | 380.6 | 0.9
| C-4601B |  | 0.0 | 380.6 | 0.9
| C-4601C |  | 0.0 | 380.6 | 0.9
| Flares:
| #2 Flare (H-1105) |  | 150.0 | 237.0 | negligible
| #3 Flare (H-1104) |  | 150.0 | 237.0 | negligible
| #5 Flare (H-3351) |  | 150.0 | 237.0 | negligible
| #6 Flare (H-3352) |  | 150.0 | 237.0 | negligible
| #7 Flare (H-3301) |  | 150.0 | 237.0 | negligible
| Water Pumps:
| PD-1602 |  | 1.9 | 40.6 | 2.9
| PD-1603 |  | 1.9 | 40.6 | 2.9
| PD-1604 |  | 1.9 | 40.6 | 2.9
| PD-1605 |  | 1.9 | 40.6 | 2.9
| PD-1620 |  | 1.3 | 27.0 | 1.9

Statutory and Executive Order Reviews

A. Executive Order 12866: Regulatory Planning and Review and Executive Order 13563: Improving Regulation and Regulatory Review

This proposed action is not a significant regulatory action and was, therefore, not submitted to the Office of Management and Budget (OMB) for review.

B. Executive Order 13771: Reducing Regulations and Controlling Regulatory Costs

This proposed action is not an Executive Order 13771 regulatory action because this action is not significant under Executive Order 12866.

C. Paperwork Reduction Act

This proposed action does not impose an information collection burden under the provisions of the Paperwork Reduction Act, 44 U.S.C. 3501 et seq. Under the Paperwork Reduction Act, a “collection of information” is defined as a requirement for “answers to * * * identical reporting or recordkeeping requirements imposed on ten or more persons * * *.” 44 U.S.C. 3502(3)(A). The proposed action does not impose any new obligations or new enforcement duties on any state, local or tribal government or the private sector.

D. Regulatory Flexibility Act

I certify that this action will not have a significant economic impact on a substantial number of small entities under the RFA. In making this determination, the impact of concern is any significant adverse economic impact on small entities. An agency may certify that a rule will not have a significant economic impact on a substantial number of small entities if the rule relieves regulatory burden, has no net burden or otherwise has a positive economic effect on the small entities subject to the rule. This proposed action merely adds the erroneously omitted table to the CFR, it does not change any determination included in the FIP. We have, therefore, concluded that this action will have no net regulatory burden for all directly regulated small entities.

E. Unfunded Mandates Reform Act (UMRA)

This action does not contain any unfunded mandates, as described in UMRA, 2 U.S.C. 1531-1538, and does not significantly or uniquely affect small governments. The action imposes no enforceable duty on any state, local or tribal government or the private sector.

F. Executive Order 13132: Federalism

The proposed action does not have federalism implications. It would not have substantial direct effects on the states, on the relationship between the national government and the states, or on the distribution of power and responsibilities among the various levels of government.

G. Executive Order 13175: Consultation and Coordination With Indian Tribal Governments

This proposed action does not have tribal implications, as specified in Executive Order 13175. It will not have substantial direct effects on tribal governments. Thus, Executive Order 13175 does not apply to this rule.

H. Executive Order 13045: Protection of Children From Environmental Health Risks and Safety Risks

This proposed action is not subject to Executive Order 13045 because it is not economically significant as defined in Executive Order 12866, and because the EPA does not believe the environmental health or safety risks addressed by this action present a disproportionate risk to children.

I. Executive Order 13211: Actions Concerning Regulations That Significantly Affect Energy Supply, Distribution, or Use

This action is not subject to Executive Order 13211 (66 FR 28355, May 22, 2001), because it is not a significant regulatory action under Executive Order 12866.

J. National Technology Transfer and Advancement Act (NTTAA)

This proposed action does not involve technical standards.

K. Executive Order 12898: Federal Actions To Address Environmental Justice in Minority Populations and Low-Income Populations

The EPA believes this proposed action does not have potential disproportionately high and adverse human health or environmental effects on minority, low-income or indigenous populations. Through this action, the EPA is adding the erroneously omitted table to the CFR; it does not change any determination included in the FIP. This action does not remove any of the prior rule's environmental or procedural protections.

L. Congress Review Act (CRA)

This proposed rule is exempt from the CRA because it is a rule of particular applicability.

List of Subjects in 40 CFR Part 52

Environmental protection, Air pollution control, Incorporation by reference, Intergovernmental relations, Nitrogen dioxide, Particulate matter, Reporting and recordkeeping requirements, Sulfur oxides.

Authority: 42 U.S.C. 7401 et seq.

Dated: February 10, 2021.
Walter Mugdan,
Acting Regional Administrator, Region 2.

Part 52, chapter I, title 40 of the Code of Federal Regulations is proposed to be amended as follows:

PART 52—APPROVAL AND PROMULGATION OF IMPLEMENTATION PLANS

1. The authority citation for part 52 continues to read as follows:

Authority: 42 U.S.C. 7401 et seq.

Subpart CCC—Virgin Islands

2. In § 52.2781, paragraph (d)(5) is added to read as follows:

§ 52.2781 Visibility protection.

* * * * *

(d) * * *

(5) Emissions limitations, the owners/operators subject to this section shall not emit or cause to be emitted SO2, NOX, and PM in excess of the following limitations:

Table 1 to Paragraph (d)(5)
Facility | BART unit | BART controls/limits: Control | BART controls/limits: SO2 (tons/year) | BART controls/limits: NO2 (tons/year) | BART controls/limits: PM (tons/year)
HOVENSA | Boilers:
| 1 (B-1151) |  | 330.1 | 450.6 | 40.6
| 3 (B-1153) |  | 330.1 | 450.6 | 40.6
| 4 (B-1154) |  | 322.5 | 443.5 | 39.7
| 5 (B-1155) |  | 484.9 | 676.9 | 60.7
| 6 (B-3301) |  | 330.8 | 435.3 | 40.6
| 7 (B-3302) |  | 330.8 | 435.3 | 40.6
| 8 (B-3303) |  | 640.1 | 559.8 | 78.6
| 9 (B-3304) |  | 640.1 | 559.8 | 78.6
| Turbines:
| GT1 (G-1101E) |  | 135.5 | 805.7 | 12.2
| GT2 (G-1101F) |  | 135.5 | 805.7 | 12.2
| GT3 (G-1101G) |  | 135.5 | 805.7 | 12.2
| GT4 (G-3404) |  | 161.0 | 809.5 | 12.9
| GT5 (G-3405) |  | 161.0 | 766.5 | 12.9
| GT6 (G-3406) |  | 161.0 | 766.5 | 12.9
| GT7 (G-3407) |  | 161.0 | 766.5 | 12.9
| GT8 (G-3408) |  | 167.6 | 1002.1 | 15.1
| GT9 (G-3409) | Steam Injection for NOX Control | 52.2 | 150.2 | 14.0
| Process Heaters:
| H-101 |  | 155.5 | 232.5 | 19.3
| H-104 |  | 115.5 | 172.8 | 17.2
| H-200 |  | 8.1 | 16.0 | 1.2
| H-201 |  | 8.2 | 16.1 | 1.2
| H-202 |  | 26.6 | 146.5 | 4.0
| H-401A |  | 197.6 | 279.1 | 24.4
| H-401B |  | 197.6 | 279.1 | 24.4
| H-401C |  | 197.6 | 279.1 | 24.4
| H-1401A |  | 163.1 | 388.7 | 21.1
| H-1401B |  | 155.4 | 370.2 | 20.1
| H-1500 |  | 13.0 | 25.5 | 2.0
| H-1501 |  | 13.7 | 26.8 | 2.0
| H-160 |  | 29.6 | 163.0 | 4.4
| H-600 |  | 11.5 | 22.5 | 1.7
| H-601 |  | 7.8 | 15.2 | 1.2
| H-602 |  | 62.6 | 344.4 | 9.4
| H-603 |  | 17.2 | 33.7 | 2.6
| H-604 |  | 8.1 | 15.9 | 1.2
| H-605 |  | 3.4 | 6.6 | 0.5
| H-606 |  | 11.8 | 23.1 | 1.8
| H-800A |  | 9.4 | 18.4 | 1.4
| H-800B |  | 9.4 | 18.4 | 1.4
| H-801 |  | 22.0 | 121.1 | 3.3
| H-2101 |  | 116.4 | 283.2 | 15.1
| H-2102 |  | 112.7 | 274.1 | 14.6
| H-2201A |  | 13.4 | 26.3 | 2.0
| H-2201B |  | 13.4 | 26.3 | 2.0
| H-2202 |  | 26.1 | 143.7 | 3.9
| H-2400 |  | 7.2 | 14.2 | 1.1
| H-2401 |  | 24.1 | 132.5 | 3.6
| H-2501 |  | 44.5 | 244.5 | 6.7
| H-4502 |  | 32.5 | 178.9 | 4.9
| H-4503 |  | 30.8 | 169.6 | 4.6
| H-4504 |  | 27.6 | 151.9 | 4.1
| H-4505 |  | 23.9 | 131.3 | 3.6
| H-3101A |  | 356.7 | 507.1 | 48.1
| H-3101B |  | 356.7 | 507.1 | 48.1
| H-4101A |  | 356.7 | 507.1 | 48.1
| H-4101B |  | 356.7 | 507.1 | 48.1
| H-4401 |  | 29.4 | 161.5 | 4.4
| H-4402 |  | 28.0 | 153.8 | 4.2
| H-4451 |  | 83.4 | 458.7 | 12.5
| H-4452 |  | 54.3 | 298.6 | 8.1
| H-4453 |  | 54.3 | 298.6 | 8.1
| H-4454 |  | 16.9 | 33.1 | 2.5
| H-4455 |  | 30.3 | 166.6 | 4.5
| H-4201 |  | 367.7 | 448.1 | 44.9
| H-4202 |  | 355.7 | 433.6 | 43.4
| H-5401 |  | 29.4 | 161.5 | 4.4
| H-5402 |  | 28 | 153.8 | 4.2
| H-5451 |  | 83.4 | 458.7 | 12.5
| H-5452 |  | 54.3 | 298.6 | 8.1
| H-5453 |  | 54.3 | 298.6 | 8.1
| H-5454 |  | 16.9 | 33.1 | 2.5
| H-5455 |  | 30.3 | 166.6 | 4.5
| H-4601A |  | 13.4 | 26.3 | 2
| H-4601B |  | 13.4 | 26.3 | 2
| H-4602 |  | 26.1 | 143.7 | 3.9
| H-4301A |  | 14.6 | 28.7 | 2.2
| H-4301B |  | 14.6 | 28.7 | 2.2
| H-4302 |  | 26.7 | 147.1 | 4
| H-5301A |  | 14.6 | 28.7 | 2.2
| H-5301B |  | 14.6 | 28.7 | 2.2
| H-5302 |  | 26.7 | 147.1 | 4
| TGT unit No. 2 Beavo:
| H-4761 & T-4761 |  | 2.0 | 4.0 | 1.0
| TGI units:
| H-1032 |  | 1.6 | 3.1 | 0.2
| H-1042 |  | 3.3 | 6.5 | 0.5
| H-4745 |  | 900.0 | 28.0 | 3.0
| Compressors:
| C-200A | Catalytic Converters for NOX and CO control | 0.0 | 33.1 | 0.2
| C-200B | Catalytic Converters for NOX and CO control | 0.0 | 33.1 | 0.2
| C-200C | Catalytic Converters for NOX and CO control | 0.0 | 33.1 | 0.2
| C-1500A |  | 0.0 | 40.0 | 0.1
| C-1500B |  | 0.0 | 40.0 | 0.1
| C-1500C |  | 0.0 | 40.0 | 0.1
| C-2400A | Catalytic Converters for NOX and CO control | 0.0 | 19.4 | 0.3
| C-2400B | Catalytic Converters for NOX and CO control | 0.0 | 19.4 | 0.3
| C-4601A |  | 0.0 | 380.6 | 0.9
| C-4601B |  | 0.0 | 380.6 | 0.9
| C-4601C |  | 0.0 | 380.6 | 0.9
| Flares:
| #2 Flare (H-1105) |  | 150.0 | 237.0 | negligible
| #3 Flare (H-1104) |  | 150.0 | 237.0 | negligible
| #5 Flare (H-3351) |  | 150.0 | 237.0 | negligible
| #6 Flare (H-3352) |  | 150.0 | 237.0 | negligible
| #7 Flare (H-3301) |  | 150.0 | 237.0 | negligible
| Water Pumps:
| PD-1602 |  | 1.9 | 40.6 | 2.9
| PD-1603 |  | 1.9 | 40.6 | 2.9
| PD-1604 |  | 1.9 | 40.6 | 2.9
| PD-1605 |  | 1.9 | 40.6 | 2.9
| PD-1620 |  | 1.3 | 27.0 | 1.9

[FR Doc. 2021-03057 Filed 2-18-21; 8:45 am]

BILLING CODE 6560-50-P